DEPARTMENT OF AGRICULTURE

Forest Service

Tongass National Forest; Alaska; Shoreline II Outfitter/Guide Environmental Impact Statement

AGENCY: Forest Service, USDA.

ACTION: Corrected Notice of Intent to prepare an environmental impact statement.

SUMMARY: A Notice of Intent (NOI) was first published for this proposal in the Federal Register (79 FR 81210) on June 16, 2014. This NOI is being published due to the length of time that has passed since the first NOI was published, due to changes made to the Purpose and Need and Proposed Action in response to public input received during the initial scoping period, and a new Decision Maker for the DEIS and FEIS.

DATES: Comments received during the initial scoping period in 2014 will be considered in the preparation of this EIS. New or additional comments must be received by 45 days from date of publication of this Corrected NOI in the Federal Register. The draft environmental impact statement is expected in November 2015, and the final environmental impact statement is expected in March 2016.

ADDRESSES: Comments can be submitted via the project Web site at http://go.usa.gov/Pzi. Click on the link “Commment on Project” to submit comments and attach documents. Comments may also be sent via email to comments-alaska-tongass-sitka@fs.fed.us or sent via fax to 907-772-5996. Send written comments to Carey Case, Shoreline II Project Leader, Petersburg Ranger District, 12 North Nordic Drive, Petersburg, AK 99833.

FOR FURTHER INFORMATION CONTACT: Carey Case, Shoreline II Team Leader by phone, 907-772-5906, email, ccase@fs.fed.us or by mail at 12 North Nordic Drive, Petersburg, AK 99833. Additional information about the project and project area is available on the Internet at http://go.usa.gov/Pzi Individuals who use telecommunication devices for the deaf (TDD) may call the Federal Information Relay Service (FIRS) at 1-800-877-8339 between 8 a.m. and 8 p.m. Eastern Time, Monday through Friday.

SUPPLEMENTARY INFORMATION:

Purpose and Need for Action

The purpose of this action is to manage outfitters and guides on the Tongass National Forest marine shoreline zone consistent with the 2008 Tongass Land and Resource Management Plan (Forest Plan). A decision is needed to determine new outfitter and guide use allocations for the project area. This is necessary to balance commercial and non-commercial recreational opportunities and to provide and maintain high quality recreation experiences without degrading forest resources.

This action is needed to meet Forest Plan goals and objectives for recreation, tourism, and to support local and regional economies. In addition, the 2004 Shoreline ROD required a review after 5 years to determine whether to continue implementing the decision, or to supplement it. A 5-year review was never conducted; this environmental analysis is intended to fulfill the role of that review. This environmental analysis will replace the Shoreline ROD with a new Environmental Impact Statement and Record of Decision.

Since the Shoreline ROD was completed in 2004, demand for non-motorized recreation commercial services that originate in the marine shoreline zone has increased. The need for recreation commercial services has expanded both in terms of number of visitors, and the types of services being offered. There has been an increase in the fleet of small to mid-size cruise ships desiring to guide on the Tongass, and the demand for guided big game hunting continues to grow. Also, the traditionally low-use seasons (April-May; September-October) are seeing increased use, with additional interest for commercial use in the winter use season (January-March). Six of the use areas defined in the 2004 Shoreline decision are at 80 percent or more of their allocation during one or more seasons, and operators are dispersing to areas traditionally less used. At some locations, outfitters and guides have requested to operate beyond the ½-mile zone. There is a need to revisit the decision to better align with current market demand for non-motorized commercial recreation services.

Also, in 2008, the Forest Service updated the national directives for outfitting and guiding. These updates simplified procedures and clarified policies for priority use permits governing performance, inspections, and allocation of use. Additionally, data gathered recently through monitoring and reported use by guides shows that some information used in the 2001 Visitor Capacity Analysis required updating based on information gathered through Forest Service monitoring and reported use by guides.

Proposed Action

The Forest Service is proposing to allocate a portion of the overall visitor capacity to outfitter and guide use. The 2014 Shoreline II Project Visitor Capacity Analysis (located at http://go.usa.gov/Pzi) establishes the total visitor capacity for the project area. Visitor capacity and the proposed allocations are described in terms of service days. A service day is defined as a day, or any part of a day, for which an outfitter or guide provides service to a client on National Forest System (NFS) lands. Service days were calculated and allocated to 48 geographic units defined as Use Areas.

The Forest Service proposes to allocate up to 80,463 service days of the total visitor capacity of 636,448 service days within the project area to outfitter and guide use. These allocations are proposed by season and Use Area. The Forest Service proposes to allocate guided brown bear hunts in the Alaska Department of Fish and Game (ADF&G) Unit 4 Game Management Unit based on the recommended number of hunts in the Alaska Board of Game Brown Bear Management Strategy (BBMS, 2000). The number of hunts will be allocated by ADF&G Guide Use Area to the spring and fall seasons proportionally based on the 5-year average from actual use reports (2008-2012). For example, the BBMS recommends ten hunts in the 04-01 ADF&G Guide Use Area (which contains 04-01A, B, and C Shoreline II Use Areas). Based on the 5-year average, 66 percent of the hunts have occurred in the spring season and 34 percent have occurred in the fall season. We propose to allocate seven of the ten hunts (66 percent) to the spring season and three hunts (34 percent) to the fall season. Since Shoreline II Use Areas are smaller subunits of the ADF&G Guide Use Areas, the location of the hunts could occur across multiple Shoreline II Use Areas. The service days used for each hunt would be part of the total outfitter/guide allocation proposed for the Use Area and season.

We propose that no more than 50 percent of the total outfitter/guide allocation for a Use Area, by season, would be allowed at a large group area (LGA), with exceptions in Use Areas with hardened LGA sites. At hardened LGA sites the authorized officer would have the ability to authorize more than 50 percent of that season's Use Area allocation (not to exceed the total commercial allocation for the season). For example, George Island LGA in Use Area 04-16E is a hardened site that can accommodate more than the 2,356 service days available (50 percent of the proposed summer allocation) for LGA use in the summer. The authorized officer could raise the allowed use at this LGA above 2,356 service days.

The project area overlaps with six congressionally designated wilderness areas. The Wilderness Act of 1964 prohibits commercial services, except for those that may be necessary to meet the recreational or other purposes of the area. The need for commercial services in wilderness has been documented in Wilderness Commercial Needs Assessments, which are available at http://go.usa.gov/Pzi. Twenty Use Areas are within designated wilderness. In addition to the proposed outfitter and guide use allocations, the Forest Service will seek to expand voluntary wilderness best management practices agreements with recreation service providers where appropriate.

The Proposed Action would allocate a total of 80,463 service days across the four districts for use by outfitters and guides. The use will be authorized by special use permits to outfitters and guides, and may be temporary in nature (less than 1 year) or for multiple years. For outfitters and guides who have demonstrated satisfactory performance, the authorized officer may issue priority use permits, for up to 10 years, in accordance with Forest Service Handbook 2709.14. The Proposed Action does not limit non-commercial use by the public.

Possible Alternatives

A no-action alternative will be considered. This alternative will be a continuation of outfitting and guiding resembling the current management and reflect the decision in the 2004 Shoreline Outfitter/Guide Record of Decision. Also, three additional alternatives are being considered: the proposed action, a lower allocation alternative, and a higher allocation alternative. The lower allocation alternative reflects both views of the public identified during scoping and requirements under the Wilderness Act of 1964 and the Tongass Land Management Plan to provide outstanding opportunities for solitude in wilderness. The higher allocation alternative reflects the views of companies and individuals identified during scoping, as well as a growing tourism industry in Southeast Alaska, and an analysis done by the Tongass National Forest's regional economist.

Adaptive management would be common to all action alternatives. Adaptive management is a process of monitoring results and adjusting the chosen action to meet desired outcomes; this provides the Decision Maker the flexibility to adjust use allocations over the life of the project if specific criteria are met.

Responsible Official

The Forest Supervisor of the Tongass National Forest is the responsible official for this decision.

Nature of Decision To Be Made

The decision based on this EIS will allocate a portion of the total visitor capacity to outfitter and guide use in the marine shoreline zone. The decision, which will be documented in a Record of Decision, will:

1. specify the amount of the carrying capacity in service days that are allocated to commercial recreation use for each Use Area in each season,

2. specify the types of commercial recreation activities permitted,

3. determine what, if any, management strategies to implement for brown bear, wilderness, and large group use areas and other issues identified through the analysis,

4. specify any mitigation measures for commercial recreation activities to reduce user conflicts and resource impacts, and establish monitoring requirements.

Permits or Licenses Required

Some outfitter and guide activities authorized by this decision may require outfitters and guides to obtain permits from other Federal and State agencies.

Scoping Process

This proposal has been listed on the Tongass National Forest Schedule of Proposed Actions since April 2012.The initial scoping period started when the NOI was published June 16, 2014. Comments submitted previously will be considered in the analysis. A public scoping meeting was held in Sitka, Alaska, on July 8th, and in Angoon, Alaska, July 9th, 2014, and a scoping package was mailed to the public on June 13, 2014. There is an opportunity to submit new or additional comments for 45 days after publication of this Corrected NOI.

This project is subject to the Predecisional Administrative Review Process (Objection Process) pursuant to 36 CFR 218, subparts A and B. The “objection process” allows parties who have submitted timely, specific written comments during Forest Service-announced public comment periods, such as this scoping period or when the Draft EIS goes out for public comment, to object to the decision being drafted. No public meetings are to be held with the release of this NOI. It is important that reviewers provide their comments at such times and in such manner that they are useful to the agency's preparation of the environmental impact statement. Therefore, comments should be provided prior to the close of the comment period and should clearly articulate the reviewer's concerns and contentions. Comments received in response to this solicitation, including names and addresses of those who comment, will be part of the public record. Comments submitted anonymously will also be accepted and considered.

Maps and detailed information on the project are available on the Shoreline II Outfitter/Guide Web page located at: (http://goo.gl/tTfXZ5).

M. Earl Stewart,
Forest Supervisor.

[FR Doc. 2015-15484 Filed 6-24-15; 8:45 am]

BILLING CODE 3410-11-P